NATIONAL INDIAN GAMING COMMISSION

25 CFR Part 580

[RIN 3141-AA04]

Environment, Public Health and Safety

AGENCY: National Indian Gaming Commission.

ACTION: Proposed rule: Notice of reopening of comment period.

SUMMARY: On October 2, 2001, the National Indian Gaming Commission (Commission) issued a Proposed Rule (66 FR 50127-50135) proposing regulations to establish the Commission's oversight process to ensure that the environment, public health and safety are adequately protected at Indian Gaming facilities in accordance with IGRA. Upon a written request from members of the general public, the date for filing comments is being extended.

DATES: Comments shall be filed on or before December 29, 2001.

ADDRESSES: Send comments by mail, facsimile, or hand delivery to: Environment, Public Health Safety Comments, National Indian Gaming Commission, Suite 9100, 1441 L Street, N.W., Washington, DC 20005. Fax number: 202-632-7066 (not a toll-free number). Public comments may be delivered or inspected from 9 a.m. until noon and from 2 p.m. to 5 p.m. Monday through Friday.

FOR FURTHER INFORMATION, CONTACT: Christine Nagle at 202-632-7003 or, by fax, at 202-632-7066 (these are not toll-free numbers).

SUPPLEMENTARY INFORMATION: The Indian Gaming Regulatory Act (“IGRA” or “Act”) 25 U.S.C. 2701-2721, enacted on October 17, 1988, established the National Indian Gaming Commission (Commission). Under the Act, the Commission is charged with regulating gaming activities on Indian lands. The Act expressly authorizes the Commission to “promulgate such regulations and guidelines as it deems appropriate to implement provisions of this [Act].” 25 U.S.C. 2706(b)(10).

The regulations proposed on October 2, 2001, would establish a system to implement the Commission's oversight authority in the areas of environment, public health and safety. The statutory basis for this responsibility is set forth in 25 U.S.C. 2710 (b)(2)(E) which provides that tribal ordinances or resolutions submitted for the Chairman's approval ensure that “the construction and maintenance of the gaming facility, and the operation of that gaming is conducted in a manner which adequately protects the environment and the public health and safety.” On April 27, 1999, the Commission issued an Advance Notice of Proposed Rulemaking regarding the establishment of environment, public health and safety procedures. After reviewing the information solicited through this notice, the Commission decided to move forward with proposed regulations. In November 1999, a Tribal-Commission Advisory Committee was formed to consult on the project. The Commission attempted to assemble a diverse advisory committee that represented the interests of a broad range of gaming tribal governments. During the period from November 1999 through May 2000, the Commission and the Tribal Advisory Committee met four times to develop a regulatory proposal. The Commission published a Notice of Proposed Rulemaking that appeared in the Federal Register at 65 FR 45558, on July 24, 2000. In response to the Federal Register notice, the Commission received a number of helpful comments suggesting changes to the proposed rule. The Tribal-Commission Advisory Committee met after the close of the public comment period to discuss the comments that had been submitted. Upon consideration of the comments submitted, and discussions with the Tribal-Commission Advisory Committee, the Commission decided to revise the proposed rule and republish the revised rule as a proposed rule. The Commission established a thirty-day comment period for public comment on this revised rule. However, the Commission did receive a written request for extension of time from the general public citing the interest in these issues by tribes and indicating that the thirty-day period did not provide enough time for meaningful responses. Based on the request, the Commission has decided to extend the comment period until December 29, 2001.

Dated: November 6, 2001.
Montie R. Deer,
Chairman, National Indian Gaming Commission.

[FR Doc. 01-28154 Filed 11-8-01; 8:45 am]

BILLING CODE 7565-01-P